OFFICE OF PERSONNEL MANAGEMENT

Civil Service Retirement System Board of Actuaries Meeting

AGENCY: Office of Personnel Management.

ACTION: Revised notice of meeting.

SUMMARY: This notice is a revision to the notice published February 5, 2020, regarding the meeting of the Civil Service Retirement System Board of Actuaries on Thursday, April 2, 2020. Due to maximum telework procedures in place in response to the coronavirus, this meeting will be held by telephone. The meeting will start at 10:00 a.m. EDT. The purpose of the meeting is for the Board to review the actuarial methods and assumptions used in the valuations of the Civil Service Retirement and Disability Fund (CSRDF).

FOR FURTHER INFORMATION CONTACT: Gregory Kissel, Senior Actuary for Pension Programs, U.S. Office of Personnel Management, 1900 E Street NW, Room 4316, Washington, DC 20415. Phone (202) 606-0722 or email at actuary@opm.gov.

SUPPLEMENTARY INFORMATION:

Agenda

1. Summary of recent legislative proposals

2. Review of actuarial assumptions

3. CSRDF Annual Report

Persons desiring to attend this meeting by telephone should contact OPM at least 1 business day in advance of the meeting date at the address shown below, to request a call-in number.

For the Board of Actuaries.
Alexys Stanley,
Regulatory Affairs Analyst.

[FR Doc. 2020-06376 Filed 3-26-20; 8:45 am]

BILLING CODE 6325-63-P